DEPARTMENT OF THE TREASURY

Internal Revenue Service

26 CFR Part 1

[REG-107100-00]

RIN 1545-AY26

Disallowance of Deductions and Credits for Failure To File Timely Return; Correction

AGENCY: Internal Revenue Service (IRS), Treasury.

ACTION: Correction of a cancellation of notice of public hearing on proposed regulations.

SUMMARY: This document contains corrections to a cancellation notice of public hearing on proposed rulemaking which was published in the Federal Register on Wednesday, May 29, 2002 (67 FR 37369), relating to the disallowance of deduction and credits for nonresident alien individuals and foreign corporations that fail to file a timely U.S. income tax return.

FOR FURTHER INFORMATION CONTACT: Nina E. Chowdhry, (202) 622-3880 (not a toll-free number).

SUPPLEMENTARY INFORMATION:

Background

The notice of cancellation of public hearing on proposed rulemaking that is subject to this correction is under sections 874 and 882 of the Internal Revenue Code.

Need for Correction

As published, the notice of cancellation of public hearing on proposed rulemaking contained errors which may prove misleading and are in need of correction.

Correction of Publication

Accordingly, the publication of the cancellation of notice of public hearing on proposed rulemaking which is the subject of FR Doc. 02-13397, is corrected as follows:

1. On page 37369, in the preamble, following the caption ACTION:, the language “Cancellation of notice of proposed rulemaking by cross-reference to temporary regulations and notice of public hearing.” is corrected to read “Cancellation of notice of public hearing on proposed rulemaking.”.

2. On page 37369, in the preamble, following the caption SUMMARY:, the language “This document provides notice of cancellation of proposed regulations and notice of public hearing relating to the disallowance of deductions and credits for nonresident alien individuals and foreign corporations that fail to file a timely U.S. income tax return.” is corrected to read “This document provides notice of cancellation of a public hearing on proposed regulations relating to the disallowance of deductions and credits for nonresident alien individuals and foreign corporations that fail to file a timely U.S. income tax return.”.

Cynthia E. Grigsby,
Chief, Regulations Unit, Associate Chief Counsel, (Income Tax & Accounting).

[FR Doc. 02-15107 Filed 6-13-02; 8:45 am]

BILLING CODE 4830-01-P